DEPARTMENT OF ENERGY

Federal Energy Regulatory Commission

[Docket No. EC05-56-000, et al.]

Hardee Power Partners Limited, et al.; Electric Rate and Corporate Filings

March 14, 2005.

The following filings have been made with the Commission. The filings are listed in ascending order within each docket classification.

1. Hardee Power Partners Limited, Invenergy TN LLC, Judith Gap Energy LLC, Spring Canyon Energy LLC

[Docket No. EC05-56-000]

Take notice that on March 10, 2005, Hardee Power Partners Limited (Hardee Power), Invenergy TN LLC (Invenergy TN), Judith Gap Energy LLC (Judith Gap), and Spring Canyon Energy LLC (Spring Canyon), (collectively, the Applicants) submitted an application pursuant to section 203 of the Federal Power Act for authorization of an indirect disposition of jurisdictional facilities through two interrelated transactions that would result in changes to the upstream ownership interests held by existing indirect owners of the Applicants (the Transactions). Applicants state that Hardee Power owns and operates an approximately 370 MW natural gas/No. 2 oil-fired electricity generation facility located in Hardee Power and Polk Counties, Florida. Applicants state that Hardee Power's jurisdictional facilities consist of two long-term power sale agreements, a market-based rate tariff and contracts entered into thereunder, limited interconnection facilities, and related books and records. Applicants further state that Invenergy TN owns and operates an approximately 27 MW wind-powered generation facility located in Tennessee. Applicants also state that Invenergy TN's jurisdictional facilities consist of a market-based rate tariff and long-term contract entered into thereunder, limited interconnection facilities, and related books and records. Applicants state that once accepted for filing by the Commission, the jurisdictional facilities of Judith Gap and Spring Canyon will be their respective market-based rate tariffs. Applicants further state that the Transactions will not directly affect the Applicants direct ownership of their respective jurisdictional facilities nor will the Transactions affect the operation of such facilities.

Comment Date: 5 p.m. Eastern Time on March 31, 2005.

2. Mesquite Investors, L.L.C.; San Joaquin Cogen, L.L.C.; Pawtucket Power Holding Company, L.L.C.; NAPG San Joaquin, L.L.C.; NAPG Pawtucket, L.L.C.;

[Docket No. EC05-57-000]

Take notice that on March 11, 2005, Mesquite Investors, L.L.C. (Mesquite), San Joaquin Cogen, L.L.C. (San Joaquin), Pawtucket Power Holding Company, L.L.C. (Pawtucket), NAPG San Joaquin, L.L.C. (NAPG San Joaquin) and NAPG Pawtucket, L.L.C. (NAPG Pawtucket) (jointly, Applicants) filed with the Federal Energy Regulatory Commission an application pursuant to section 203 of the Federal Power Act requesting that the Commission authorize: (i) The sale and transfer of Mesquite's membership interests in San Joaquin to NAPG San Joaquin; and (ii) the sale and transfer of Mesquite's membership interests in Pawtucket to NAPG Pawtucket, and approve the conversion of San Joaquin's form of business organization to a limited liability company. Applicants requested privileged treatment for certain exhibits pursuant to 18 CFR 33.9 and 388.112.

Comment Date: 5 p.m. Eastern Time on April 1, 2005.

3. Mirant Corporation and Its Public Utility Subsidiaries

[Docket No. EC05-58-000]

Take notice that on March 11, 2005, Mirant Corporation and its public utility subsidiaries (Applicants) filed with the Federal Energy Regulatory Commission an application pursuant to section 203 of the Federal Power Act requesting approval for certain internal asset transfers and a corporate restructuring (the Restructuring) to be implemented pursuant to the Plan of Reorganization filed with the United States Bankruptcy Court for the Northern District of Texas, Fort Worth Division (Bankruptcy Court) for Mirant and certain of its wholly-owned subsidiaries on January 19, 2005, under Chapter 11 of the United States Bankruptcy Code. The Applicants request that the Commission provide them with certain limited flexibility to determine the specific manner by which the Restructuring will be implemented. The Applicants also request that the Commission issue an order approving the Restructuring no later than May 31, 2005, to permit the Plan of Reorganization to be confirmed by the Bankruptcy Court by June 30, 2005. The Applicants further request certain limited waivers of the Commission's part 33 filing requirements.

Comment Date: 5 p.m. Eastern Time on April 1, 2005.

4. Lake Benton Power Partners II, LLC

[Docket No. ER98-4222-003]

Take notice that on March 10, 2005, Lake Benton Power Partners II, LLC (Lake Benton II) submitted a compliance filing pursuant to Investigation of Terms and Conditions of Public Utility Market-Based Rate Authorizations, 105 FERC ¶ 61,277 (2003), requiring that sellers with market-based rates that have not previously amended their tariffs to include the market behavior rules do so upon the filing of a three-year market-based rate update. In addition, Lake Benton II submitted revised tariff sheets in compliance with the Commission Order No. 652 issued February 10, 2005, Reporting Requirement for Changes in Status for Public Utilities with Market-Based Rate Authority, 110 FERC ¶ 61,097 (2005). Lake Benton II also submitted amended tariff sheets in compliance with Order No. 614 issued March 31, 2000, Designation of Electric Rate Schedule Sheets, [1996-2000 Reg. Preambles] FERC Stats. & Regs. ¶ 31,096 (2000) and a revised Code of Conduct.

Lake Benton II states that copies of the filing were served on parties on the official service list in the above-captioned proceeding and the Florida Public Service Commission.

Comment Date: 5 p.m. Eastern Time on March 31, 2005.

5. New Mexico Electric Marketing, LLC

[Docket No. ER02-77-003]

Take notice that on March 9, 2005, New Mexico Electric Marketing, LLC, (NewMex), submitted for filing, in response to a February 16, 2005 deficiency letter, an amendment to its December 10, 2004 filing of its triennial updated market analysis.

Comment Date: 5 p.m. Eastern Time on March 30, 2005.

6. Devon Power LLC, Middletown Power LLC, Montville Power LLC, Norwalk Power LLC, NRG Power Marketing Inc.

[Docket No. ER04-23-010]

Take notice that on March 1, 2005, Devon Power LLC, Middletown Power LLC, Montville Power LLC, and Norwalk Power LLC (collectively NRG), submitted an Informational Filing showing the non-reliability must-run revenues earned during the period January 17, 2004 through December 31, 2004 by Devon Units 11-14, Montville Units 5, 6, 10 and 11 and Middletown Units 2, 3, 4 and 10, pursuant to Paragraph II.5 of the Settlement Agreement approved by the Commission in an order issued January 27, 2005, in ISO New England Inc., et al., 110 FERC ¶ 61,079 (2005).

Comment Date: 5 p.m. Eastern Time on March 31, 2005.

7. Midwest Independent Transmission System Operator, Inc.; Public Utilities With Grandfathered Agreements in the Midwest ISO Region

[Docket Nos. ER04-691-029, EL04-104-028]

Take notice that on March 10, 2005, the Midwest Independent Transmission System Operator, Inc. (Midwest ISO) submitted revisions to the Midwest ISO's Open Access Transmission and Energy Markets Tariff and other information in compliance with the Commission's December 20, 2004 Order in Midwest Independent Transmission System Operator, Inc., et al., 109 FERC ¶ 61,285 (2004). The Midwest ISO has requested a May 9, 2005, effective date for all tariff sheets submitted as part of this filing.

The Midwest ISO states that it has electronically served a copy of this filing, with attachments, upon all Midwest ISO Members, Member representatives of Transmission Owners and Non-Transmission Owners, the Midwest ISO Advisory Committee participants, as well as all state commissions within the region. In addition, Midwest states that the filing has been electronically posted on the Midwest ISO's Web site at http://www.midwestiso.org under the heading “Filings to FERC” for other interested parties in this matter and that the Midwest ISO will provide hard copies to any interested parties upon request.

Comment Date: 5 p.m. Eastern Time on March 31, 2005.

8. Central Maine Power Company

[Docket No. ER04-973-001]

Take notice that on March 8, 2005, Central Maine Power Company (CMP) tendered for filing, a supplement to its June 30, 2004 informational filing consisting of the annual update of the formula rates in CMP's Open Access Transmission Tariff. CMP states that the supplement to the annual informational filing is made in accordance with section 1.18 of the Settlement Agreement approved by the Commission on September 28, 2000 in Docket No. ER00-26-000, et al., 92 FERC ¶ 61,272.

CMP further states that the charges associated with the supplemental data took effect February 1, 2005, in conjunction with the effective date of the New England RTO operations.

CMP states that copies of this filing were served on Commission staff and the Maine Public Utilities Commission.

Comment Date: 5 p.m. Eastern Time on March 29, 2005.

9. Avista Corporation

[Docket No. ER05-577-001]

Take notice that on March 10, 2005, Avista Corporation tendered for filing an amendment to its open access transmission tariff (OATT) to correct a typographical error in its compliance filing for Order 2003-B filed on February 15, 2005 in Docket No. ER05-577-000. Avista Corporation states that this revision does not change any portion of the pro forma Large Generator Interconnection Procedures and Large Generator Interconnection Agreement in Avista Corporation's OATT. Avista Corporation requests an effective date of January 19, 2005.

Avista Corporation states that copies of this filing were supplied to Avista Corporation's existing transmission customers.

Comment Date: Eastern Time on March 31, 2005.

10. Phoenix Energy Trading, LLC

[Docket No. ER05-654-001]

Take notice that on March 9, 2005, Phoenix Energy Trading, LLC. (PHOENIX) filed an amendment to its February 28, 2005 petition for acceptance of PHOENIX Rate Schedule FERC No. 1; the granting of certain blanket approvals, including the authority to sell electricity at market-based rates; and the waiver of certain Commission regulations.

Comment Date: 5 p.m. Eastern Time on March 21, 2005.

11. Public Service Company of New Mexico, Texas-New Mexico Power Company

[Docket No. ER05-689-000]

Take notice that on March 9, 2005, Public Service Company of New Mexico (PNM) and Texas-New Mexico Power Company (TNMP) tendered for filing the Joint Open Access Transmission Tariff (Joint OATT), Original Volume No. 1, of the PNM Resources, Inc. (PNM Resources) Operating Companies. PNM and TNMP request that the Joint OATT become effective on the later of: (1) May 8, 2005, or (2) the closing date of the acquisition of TNMP's parent, TNP Enterprises, Inc., by PNM's parent, PNM Resources. PNM and TNMP state that the Joint OATT is being filed to combine into a common OATT the harmonized non-rate terms and conditions of the respective PNM and TNMP OATTs.

PNM and TNMP state that copies of the filing have been served on all existing OATT customers of PNM and TNMP, the New Mexico Public Regulation Commission, and the New Mexico Attorney General. PNM and TNMP also state that copies of the filing are available for public inspection at PNM's offices in Albuquerque, New Mexico, and at TNMP's offices in Fort Worth, Texas.

Comment Date: 5 p.m. Eastern Time on March 30, 2005.

12. Westar Energy, Inc.

[Docket No. ER05-690-000]

Take notice that on March 9, 2005, Westar Energy, Inc. (Westar) submitted for filing a Notice of Cancellation for Rate Schedule FERC No. 228, an Electric Power Supply Agreement between Westar and the City of Marion, Kansas.

Westar states that copies of the filing were served upon the Kansas Corporation Commission and the City of Marion, Kansas.

Comment Date: 5 p.m. Eastern Time on March 30, 2005.

13. NorthWestern Energy

[Docket No. ER05-691-000]

Take notice that on March 10, 2005, NorthWestern Energy tendered for filing an executed Generation Interconnection Agreement between NorthWestern Energy (Montana) and Exergy Development Group, LLC. Northwestern Energy requested an effective date of December 17, 2004.

Comment Date: 5 p.m. Eastern Time on March 31, 2005.

14. PJM Interconnection, L.L.C.

[Docket No. ER05-692-000]

Take notice that on March 10, 2005, PJM Interconnection, L.L.C. (PJM) submitted amendments to Schedule 2 of the PJM Open Access Transmission Tariff to incorporate the amended revenue requirements for reactive supply and voltage control from generation sources service for Allegheny Energy Supply Company, LLC (AE Supply), Monongahela Power Company (Mon Power), Duke Energy Lee, LLC (Duke Lee), Midwest Generation, LLC (MWGen), Rolling Hills Generating, L.L.C. (Rolling Hills), Ocean Peaking Power, L.L.C. (OPP), FPL Energy Marcus Hook, L.P. (Marcus Hook), Riverside Generating Company, L.L.C. (Riverside), and Buckeye Power, Inc. (Buckeye).

PJM states that copies of this filing have been served on all PJM members, AE Supply, Mon Power, Duke Lee, MWGen, Rolling Hills, OPP, Marcus Hook, FPL Energy, Riverside, Buckeye, and each state electric utility regulatory commission in the PJM region.

Comment Date: 5 p.m. Eastern Time on March 31, 2005.

15. PG Power Sales One, L.L.C.

[Docket No. ER05-693-000]

Take notice that on March 10, 2005, PG Power Sales One, L.L.C. (PGPS 1), by and through Peabody Energy, submitted for filing a Notice of Cancellation of its Market-Based Rate Tariff, Rate Schedule No. 1. PGPS 1 requests an effective date of December 31, 2004.

PGPS 1 states that notice of the proposed cancellation, has not been served on any party because PGPS 1 has not engaged in any sales of electric power or entered into any power or related contracts with any purchasers.

Comment Date: 5 p.m. Eastern Time on March 31, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1206 Filed 3-18-05; 8:45 am]

BILLING CODE 6717-01-P